DEPARTMENT OF HEALTH AND HUMAN SERVICES (DHHS)

Administration for Children and Families (ACF)

[Program Announcement CFDA Number 93.604]

Discretionary Funds for Assistance for Treatment of Torture Survivors

AGENCY: Office of Refugee Resettlement (ORR), ACF, DHHS.

ACTION: Request for applications for services to victims of torture including medical, psychological, legal and social services; and research and training for health care providers outside of treatment centers to enable the provision of services to victims of torture.

SUMMARY: The Office of Refugee Resettlement (ORR), Administration for Children and Families (ACF), announces that competing applications will be accepted for “Treatment and Services for Torture Survivors” grants to provide assistance to victims of torture, including treatment for the physical and psychological effects of torture and social and legal services, and to provide research and training for health care providers outside of treatment centers to provide rehabilitation services.

DATES: The closing date for submission of applications is May 7, 2001. See Part III of this announcement for more information on submitting applications.

Announcement Availability: The program announcement and the application materials are available from Marta Brenden, Office of Refugee Resettlement (ORR) 370 L'Enfant Promenade, SW., Washington DC 20447 and from the ORR website at www.acf.dhhs.gov/programs/orr

FOR FURTHER INFORMATION CONTACT: Marta Brenden, Refugee Program Specialist, Division of Community Resettlement, Office of Refugee Resettlement, Tel (202) 205-3589, Fax (202) 401-5772, MBrenden@ACF.DHHS.GOV.

SUPPLEMENTARY INFORMATION: This program announcement consists of four parts:

Part I: Background and General Information—background, legislative authority, funding availability, CFDA Number, eligible applicants, project and budget periods, purpose and objectives, allowable activities, and review criteria.

Part II. The Review Process—intergovernmental review, initial ACF screening, and competitive review.

Part III: The Application—application development: application forms, application submission and deadlines, late applications, extension of deadlines, certifications, general instructions for preparing a full project description, and length of applications.

Part IV: Post-award—applicable regulations, treatment of program income and reporting requirements.

Paperwork Reduction Act of 1995 (Pub. L. 104-13)

Public reporting burden for this collection of information is estimated to average 30 hours per response, including the time for reviewing instructions, gathering and maintaining the data needed, and reviewing the collection information. The following information collections are included in the program announcement: OMB control number 0970-0139, ACF UNIFORM PROJECT DESCRIPTION (UPD) which expires 12/31/2003. An agency may not conduct or sponsor, and a person is not required to respond to, a collection of information unless it displays a currently valid OMB control number.

Part I. Background and General Information

Background

Torture and Torture Victims

The psychosocial and health consequences of violence and traumatic stress have emerged as one of the public health problems of our time. Torture constitutes one of the most extreme forms of trauma, with the potential for long-term psychological and physical suffering. The term torture has been defined in different ways by various organizations for multiple purposes.

This program authorized by the “Torture Victims Relief Act of 1998” uses the definition of torture found in 18 U.S.C. 2340 (1) and “includes the use of rape and other forms of sexual violence by a person acting under the color of law upon another person under his custody or physical control.” The definition of “torture” at 18 U.S.C. 2340 (1) provides that:

‘torture’ means an act committed by a person under the color of law specifically intended to inflict severe physical or mental pain or suffering (other than pain or suffering incidental to lawful sanctions) upon another person within his custody or physical control.

This provision also defines the term “severe mental pain or suffering” as: the prolonged mental harm caused by or resulting from—

(A) the intentional infliction or threatened infliction of severe physical pain or suffering;

(B) the administration or application, or threatened administration or application, of mind-altering substances or other procedures calculated to disrupt profoundly the senses or the personality;

(C) the threat of imminent death; or

(D) the threat that another person will imminently be subjected to death, severe physical pain or suffering, or the administration or application of mind-altering substances or other procedures calculated to disrupt profoundly the senses or personality.

It should be emphasized that, for purposes of this announcement, the experience of torture may include specific characteristics of torture as documented in personal testimony or in clinical, medical, or detention settings. Some specific examples of physical and psychological types of torture are: systemic beating, sexual torture, electrical torture, suffocation, burning, bodily suspension, pharmacological torture, mutilations, dental assaults, deprivation and exhaustion, threats about the use of torture, witnessing the torture of others, humiliation, and isolation.

Estimates of the number of torture survivors have been established primarily by extrapolating from the major populations at risk—refugees and internally displaced persons. In 1997, there were estimated to be more that 13,600,000 refugees and asylum seekers in the world and 20 million internally displaced persons. The estimates of refugees, asylum seekers and displaced persons who have been tortured vary widely from 5% to 35%. This announcement, which focuses on health, social and legal services for torture survivors, as well as education and training of providers, recognizes that torture may have been an experience of many members of groups residing in the United States, including refugees, asylees, immigrants, other displaced persons, and U.S. citizens. Using data cited above, it has been estimated that there may be more than 400,000 torture survivors in the United States.

Consequences of Torture and Services for Torture Survivors

Physical consequences of torture may be extensive and severe. Specific neuropsychological symptoms are often difficult to diagnose because of head injuries and the multiplicity of symptoms. Post-traumatic stress disorder, depression, substance abuse, and other anxiety disorders are common diagnoses among torture survivors. Therefore, for many severely tortured individuals, access to medical practitioners and sophisticated diagnostic instruments and testing (e.g., neuro-imaging, cognitive functions, etc.), for the purpose of differential diagnosis, is paramount.

A high percentage of torture survivors are in need of social and legal services. Access to legal and immigration services is usually a priority. Social services, such as employment assistance and training, are also extremely important and correlate with successful psychosocial adjustment and well-being. From the national experience with refugees and survivors of wartime violence, it has been demonstrated that early and adequate access to social and legal services may also preclude the need for more specialized psychological treatment services.

The torture rehabilitation and treatment center movement, which was established in Denmark in the 1970's, and adopted in the US, Canada, France and other countries, has led to the growth of specialized torture survivor treatment centers in select parts of the nation. Although the treatment center movement has created opportunities for treatment and training in specific urban areas, many torture survivors do not have access to these highly specialized programs. Medical, social and legal services for torture survivors are needed in areas and in settings and institutions wherever torture survivors will seek assistance. Thus there is also a national need for more broad-based training of medical and mental health practitioners in the identification, diagnosis and treatment of torture survivors.

Torture survivors, now in the United States, should be provided with the rehabilitation services which would enable them to become productive community members. The Torture Victims Relief Act of 1998 provides for services for the treatment of the psychological and physical effects of torture, social and legal services for torture survivors, and research and training for health care providers.

Legislative Authority

In October 1998, Congress enacted the “Torture Victims Relief Act of 1998,” Pub. Law 105-320 (22 U.S.C. 2152 note). Sec. 5 (a) of the law provides:

Assistance for Treatment of Torture Victims—The Secretary of Health and Human Services may provide grants to programs in the United States to cover the cost of the following services:

(1) Services for the rehabilitation of victims of torture, including treatment of the physical and psychological effects of torture.

(2) Social and legal services for victims of torture.

(3) Research and training for health care providers outside of treatment centers, or programs for the purpose of enabling such providers to provide the services described in paragraph (1).

In November 1999, Congress enacted the “Torture Victims Relief Reauthorization Act of 1999,” Pub. Law 106-87 (22 U.S.C. 2151 note).

Funding Availability

Congress appropriated $10,000,000 for carrying out section 5 of the Torture Victims Relief Act of 1998 for the second year of implementation of FY 2001 Consolidated Appropriations Act, 2001, as enacted into law by section 1 (a)(1) of Public Law 106-554.

ORR anticipates that this increase in funding will permit the award of 4-6 new grants during FY 2001 at a total amount of approximately $2,000,000. The Director will award the new awards as well as the continuation awards subject to availability of funds, satisfactory progress of the FY 2000 awards, and a determination that the awards are in the best interest of the Government.

The ORR Director reserves the right to award less, or more, than the funds described, in the absence of worthy applications, or under such other circumstances as may be deemed to be in the best interest of the government. It is important to make torture treatment available to the greatest number of victims of torture and for that reason, the ORR Director reserves the right to award applications that will cover the largest number of geographic areas.

Applications for subsequent year continuation grants funded under these awards will be entertained on a non-competitive basis, subject to the availability of funds, satisfactory progress of the grantee, and a determination that continued funding would be in the best interest of the Government.

CFDA Number: 93.604

Eligible Applicants

Eligible applicants are public or private organizations and institutions.

Project and Budget Periods

This announcement invites applications for project periods up to three years. Awards, on a competitive basis, will be for a one-year budget period although project periods may be for three years. Applications for continuation grants funded under these awards, beyond the one-year budget period but within the three-year project period, will be entertained in subsequent years on a noncompetitive basis, subject to availability of funds, satisfactory progress of the grantee and a determination that continued funding would be in the best interest of the Government.

Purpose and Objectives

Through this announcement, the Office of Refugee Resettlement (ORR), Administration for Children and Families (ACF) intends to fund grant applications for 4-6 organizations to provide assistance to victims of torture.

The purpose of the torture treatment program is to provide services to persons who have experienced torture. It is also to conduct research and training for health care providers outside of treatment centers so that these providers may also provide rehabilitative services to victims of torture.

The persons who have been tortured may have one of several immigration statuses: they may be legally admitted as refugees or asylees, while others may be seeking asylum. Still other persons may be U.S. citizens. The services funded under this announcement should respond to the diversity of populations to be targeted in the project area whether they are immigrants, asylum seekers, asylees, refugees admitted under the U.S. refugee program, or citizens of the United States.

However, not all torture survivors have the same medical, psychological, social, or legal needs. It is encouraged that, within the clinical, social and legal service domains, proposals are encouraged that will address a broad menu of services for any of the torture victims in the project's specified geographic area. The applications may include several organizations in collaborative relationships in order to have all the services necessary for the clients. Partnerships are encouraged among organizations in order to reach all the torture victims in that area and to provide a comprehensive program of services. For example, an organization that currently provides legal advice to detained asylum seekers, who are torture survivors, might collaborate with a social service or treatment center organization to pool resources and expand their range of services for their clients.

Allowable Activities

Applicants may propose one or more of the following activities listed in the legislation: (1) services for the rehabilitation of victims of torture, including treatment of the physical and psychological effects of torture; (2) social and legal services for victims of torture; (3) research and training for health care providers outside of treatment centers. For example, applications may propose programs in treatment centers to provide medical, psychological, social and legal services. Applications may also propose programs for the purpose of enabling health care providers outside the treatment centers to provide medical, psychological, social and legal services. Applications should provide the rationale for activities describing how these activities meet the needs of the victims of torture to be served in the geographic area to be served.

Review Criteria

1. Objectives and Need for Assistance. The application clearly demonstrates experience with and knowledge of victims of torture and an assessment of their presence in the proposed geographic area of service. There is a clear description of the process by which the client has access to treatment and to the other allowable services. Where research and training activities are proposed, applicant clearly demonstrates interest and willingness of service providers outside the treatment centers to attend training. (15 Points)

2. Approach. The application provides a clear and feasible strategy for assisting torture survivors that demonstrates knowledge of the clients, experience in serving these clients, and community resources and has planned with other collaborative organizations to assist the clients in an effective and efficient manner. The service plan and collaborative relationships are reasonable, substantiated with appropriate documents, have a likelihood of success and provide a feasible strategy to work with the torture survivor in becoming a productive member of the community. Where research and training activities are proposed, applicant provides a plan for research and training demonstrating interest in the service providers to attend the training activities. (25 points)

3. Organization Profiles. The application demonstrates the organization's capacity to provide assistance appropriate to torture survivors (and, if appropriate to the activities in the approach, the service providers to be trained) that includes: (a.) agency mission and organizational chart; (b.) resumes of project staff demonstrating linguistic and cultural access for clients; (c.) history of experience with torture survivors, such as experience as a treatment center or an organization that provides social and legal services to survivors of torture; (d.) management plan for the project contains systems of client records, program records, and financial management; and (e.) timeline for implementation of project activities. (25 points)

4. Results or Expected Benefits. The outcomes and benefits of the assistance and training are clearly explained and are reasonable. There are clear and understandable outcome measures for the services, and a reasonable plan for reporting the outcomes to ORR. (25 points)

5. Budget and Budget Justification. The budget is reasonable and clearly justified. The methodologies for estimating the number of client/patients to be served are reasonable. The plan for program income generated by fees, including, Medicaid, Refugee Medical Assistance (RMA), and private health coverage for client fees for treatment, when available, is appropriate, reasonable and viable. (10 points)

Part II. The Review Process

Intergovernmental Review

This program is covered under Executive Order 12372, “Intergovernmental Review of Federal Programs,” and 45 CFR Part 100, “Intergovernmental Review of Department of Health and Human Services Program and Activities.” Under the Order, States may design their own processes for reviewing and commenting on proposed Federal assistance under covered programs.

Please Note: All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, American Samoa and Palau have elected to participate in the Executive Order process and have established Single Points of Contact (SPOCs). Applicants from these twenty-eight jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or indicate “not applicable” if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to ACF, they should be addressed to: Department of Health and Human Services, Administration for Children and Families, OCSE Office of Grants Management, 370 L'Enfant Promenade, S.W., 4th floor East, Washington, D.C. 20447.

A list of the Single Points of Contact for each participating State and Territory can be found on the web at: http//www.whitehouse.gov/omb/grants/spoc.html

Initial ACF Screening

Each application submitted under this program announcement will undergo a pre-review to determine that (1) the application was received by the closing date and submitted in accordance with the instructions in this announcement and (2) the applicant is eligible for funding.

Competitive Review and Evaluation Criteria

The applications that pass the initial ACF screening will be evaluated and rated by an independent review panel on the basis of evaluation criteria specified in Part I. The evaluation criteria are designed to assess the quality of a proposed project, and to determine the likelihood of its success. The evaluation criteria are closely related and are considered as a whole in judging the overall quality of an application. Points are awarded only to applications that are responsive to the evaluation criteria within the context of this program announcement.

Part III. Application

Application Development

In order to be considered for a grant under this program announcement, an application must be submitted on the forms supplied and in the manner prescribed by ACF. Application materials including forms and instructions are available from the contact named under the “Announcement Availability” section in the preamble of this announcement. Selected elements of the ACF Uniform Project Description (UPD) relevant to this program announcement are attached as Appendix A.

Application Forms

Applicants for financial assistance under this announcement must file the Standard Form (SF) 424, Application for Federal Assistance; SF 424A, Budget Information—Non-construction Programs; SF 424B, Assurances—Non-Construction Programs. The forms may be reproduced for use in submitting applications. Application materials including forms and instructions are also available from the Contact named in the “Announcement Availability” section of this announcement.

Application Submission and Deadlines

An application with an original signature and two clearly identified copies is required.

The closing date for submission of applications is May 7, 2001. Mailed applications postmarked after the closing date will be classified as late.

Mailed applications shall be considered as meeting an announced deadline if they are either received on or before the deadline date or sent on or before the deadline date and received by ACF in time for the independent review to: U.S. Department of Health and Human Services, Administration for Children and Families, Office of Refugee Resettlement, Attention: Ms. Daphne Weeden.

Applicants must ensure that a legibly dated U.S. Postal Service postmark or a legibly dated, machine produced postmark of a commercial mail service is affixed to the envelope/package containing the application(s). To be acceptable as proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications hand-carried by applicants, applicant couriers, or by other representatives of the applicant shall be considered as meeting an announced deadline if they are received on or before the deadline date, between the hours of 8 a.m. and 4:30 p.m., EST, at the U.S. Department of Health and Human Services, Administration for Children and Families, the Office of Refugee Resettlement, 6th Floor, Aerospace Building, 901 D Street, SW, Washington, DC 20447 between Monday and Friday (excluding Federal holidays). The address must appear on the envelope/package containing the application with the note “Attention: Ms. Daphne Weeden.” (Applicants are cautioned that express/overnight mail services do not always deliver as agreed.)

ACF cannot accommodate transmission of applications by fax or through other electronic media. Therefore, applications transmitted to ACF electronically will not be accepted regardless of date or time of submission and time of receipt.

Late Applications

Applications that do not meet the criteria above are considered late applications. ACF shall notify each late applicant that its application will not be considered in the current competition.

Extension of Deadlines

ACF may extend application deadlines when circumstances such as acts of God (floods, hurricanes, etc.) occur, or when there are widespread disruptions of mail service. Determinations to extend or waive deadline requirements rest with the Chief Grants Management Officer.

For Further Information on Application Deadlines Contact: Ms. Daphne Weeden, Administration for Children and Families, Office of Refugee Resettlement, 370 L'Enfant Promenade SW, 6th Floor, Washington, DC 20447, Telephone: (202) 401-4577.

Certifications, Assurances, And Disclosure Required For Non Construction Programs

Applicants requesting financial assistance for non-construction projects must file the Standard Form 424B, “Assurances: Non-Construction Programs.” Applicants must sign and return the Standard Form 424B with their applications.

Applicants must provide a signed certification regarding lobbying with their applications, when applying for an award in excess of $100,000. Applicants who have used non-Federal funds for lobbying activities in connection with receiving assistance under this announcement shall complete a disclosure form to report lobbying.

Applicants must make the appropriate certification of their compliance with the Drug Free Workplace Act of 1988. By signing and submitting the application, the applicant is providing the certification and need not mail back the certification with the applications.

Applicants must make the appropriate certification that they are not presently debarred, suspended or otherwise ineligible for an award. By signing and submitting the application, the applicant is providing the certification and need not mail back the certification with the applications.

General Instructions for Preparing a Full Project Description

The project description provides a major means by which an application is evaluated and ranked to compete with other applications for available assistance. The project description should be concise and complete and should address the activity for which Federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested. Please refer to the UPD sections in appendix A.

Length of Applications

Each application narrative portion should not exceed 25 double-spaced pages in a 12-pitch font. Attachments and appendices should not exceed 25 pages and should be used only to provide supporting documentation such as maps, administration charts, position descriptions, resumes, and letters of intent for partnership agreements. Please do not include books or video tapes as they are not easily reproduced and are therefore, inaccessible to the reviewers. Each page should be numbered sequentially, including the attachments or appendices.

Part IV. Post-award—Applicable Regulations and Reporting Requirements

Applicable Regulations

Applicable DHHS regulations can be found in 45 CFR Part 74 or Part 92.

Treatment of Program Income

Program income from activities funded under this program may be retained by the recipient and added to the funds committed to the project and used to further program objectives.

Reporting Requirements

Grantees are required to file the Financial status Report (SF-269) and Program Performance Reports on a semi-annual basis. Funds issued under these awards must be accounted for and reported upon separately from all other grant activities. ORR does not expect the proposed components/projects to include evaluation activities, however, it does expect grantees to maintain adequate records to track and report on project outcomes. The official receipt point for all reports and correspondence is the ORR Grants Officer. An original and one copy of each report shall be submitted within 30 days of the end of each reporting period directly to the Grants Officer. The mailing address is: Ms. Daphne Weeden, Administration for Children and Families, Office of Refugee Resettlement, 370 L'Enfant Promenade SW, 6th Floor, Washington, DC 20447. A final Financial and Program Report shall be due 90 days after the budget expiration date or termination of grant support.

Dated: February 28, 2001.
Carmel Clay-Thompson,
Acting Director, Office of Refugee Resettlement.

Appendix A—Uniform Project Description Overview OMB No. 0970-0139

The project description is approved under OMB control number 0970-0139 which expires 12/31/2003.

Part I The Project Description Overview

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Part II General Instructions for Preparing a Full Project Description

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, the application would describe the torture victims to be treated, the number expected to use the service and the measures of improvement expected in the clients as a result of the treatment. Similarly, where research and training activities are proposed, the application would describe the training schedule and curriculum as well as the number expected to attend the training and the measures of information to be gained from the training.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, applicants might project the number of torture victims to be enrolled for services with the number of clinical hours, social services and legal hours to be provided. Where the application proposes training, applicants might project frequency of training activities, the content of training, projected attendance and knowledge gained. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Dissemination Plan

Provide a plan for distributing reports and other project outputs to colleagues and the public. Applicants must provide a description of the kind, volume and timing of distribution.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Total Direct Charges, Total Indirect Charges, Total Project Costs

Self-explanatory.

[FR Doc. 01-5510 Filed 3-6-01; 8:45 am]

BILLING CODE 4184-01-P